DEPARTMENT OF THE INTERIOR

Bureau of Ocean Energy Management

[OMB Control Number 1010-0072]

Information Collection: Prospecting for Minerals Other Than Oil, Gas, and Sulphur on the Outer Continental Shelf and Authorizations of Noncommercial Geological and Geophysical Activities; Proposed Collection for OMB Review; Comment Request; MMAA104000

ACTION: 60-day notice.

SUMMARY: To comply with the Paperwork Reduction Act of 1995 (PRA), the Bureau of Ocean Energy Management (BOEM) is inviting comments on a collection of information that we will submit to the Office of Management and Budget (OMB) for review and approval. The information collection request (ICR) concerns the paperwork requirements in the regulations under 30 CFR part 580, Prospecting for Minerals Other than Oil, Gas, and Sulphur on the Outer Continental Shelf, as well as authorizations of noncommercial geological and geophysical (G&G) activities issued pursuant to Section 11 of the Outer Continental Shelf Lands Act.

DATES: Submit written comments by March 2, 2015.

ADDRESSES: Please send your comments on this ICR to the BOEM Information Collection Clearance Officer, Bureau of Ocean Energy Management, 381 Elden Street, HM-3127, Herndon, Virginia 20170 (mail) or boemcmts@gmail.com. Please reference ICR 1010-0072 in your comment and include your name and return address.

FOR FURTHER INFORMATION CONTACT: Office of Policy, Regulations, and Analysis at boemcmts@gmail.com to request a copy of the ICR.

SUPPLEMENTARY INFORMATION: OMB Control Number: 1010-0072.

Title: 30 CFR part 580, Prospecting for Minerals other than Oil, Gas, and Sulphur on the Outer Continental Shelf and Authorizations of Noncommercial Geological and Geophysical (G&G) Activities.

Form: BOEM-0134, Requirements for G&G Prospecting, Exploration, or Scientific Research on the OCS Related to Minerals Other than Oil, Gas, and Sulphur.

Abstract: The Outer Continental Shelf (OCS) Lands Act (OCSLA), as amended (43 U.S.C. 1331 et seq. and 43 U.S.C. 1801 et seq.), authorizes the Secretary of the Interior (Secretary) to prescribe rules and regulations to administer leasing of the OCS. Section 1337(k) of the OCS Lands Act authorizes the Secretary “. . . to grant to the qualified persons offering the highest cash bonuses on a basis of competitive bidding leases of any mineral other than oil, gas, and sulphur in any area of the outer Continental Shelf not then under lease for such mineral upon such royalty, rental, and other terms and conditions as the Secretary may prescribe at the time of offering the area for lease.” An amendment to the OCS Lands Act (Pub. L. 103-426) authorizes the Secretary to negotiate agreements (in lieu of the previously required competitive bidding process) for the use of OCS sand, gravel, and shell resources for certain specified types of public uses. The specified uses will support construction of governmental projects for beach nourishment, shore protection, and wetlands enhancement, or any such project authorized by the Federal Government.

Section 1340 of the OCSLA states that “. . . any person authorized by the Secretary may conduct geological and geophysical explorations in the [O]uter Continental Shelf, which do not interfere with or endanger actual operations under any lease maintained or granted pursuant to this Act, and which are not unduly harmful to aquatic life in such area.” Geological and geophysical exploration can only be performed pre-lease under a permit, authorization, or scientific research notice. The section further requires that permits to conduct such activities may only be issued if it is determined that the applicant is qualified; the activities do not result in pollution or create hazardous or unsafe conditions; the activities do not unreasonably interfere with other uses of the area or disturb any site, structure, or object of historical or archaeological significance.

Prospecting for marine minerals includes certain aspects of exploration as defined in the OCSLA at 43 U.S.C. 1331(k). The term “exploration” means the process of searching for minerals, including geophysical surveys where magnetic, gravity, seismic, or other systems are used to detect or imply the presence of such minerals. The OCSLA requires all parties who are prospecting marine minerals for commercial purposes to be authorized. The OCSLA also requires non-Federal parties (such as State agencies and contractors of State agencies) to obtain authorization from the Secretary to conduct noncommercial G&G exploration activities (see 43 U.S.C. 1340(a)(1)).

As a Federal agency, BOEM has a responsibility to comply with the National Environmental Policy Act (NEPA), Endangered Species Act, and Marine Mammal Protection Act, among other environmental laws. This includes a substantive duty not to take any agency action that may affect a protected species, as well as a procedural duty to consult with the U.S. Fish and Wildlife Service and National Marine Fisheries Service, when warranted, before engaging in a discretionary action that may affect a protected species.

The Independent Offices Appropriations Act (31 U.S.C. 9701), the Omnibus Appropriations Bill (Pub. L. 104-133, 110 Stat. 1321, April 26, 1996), and the OMB Circular A-25 authorize Federal agencies to recover the full cost of services that confer special benefits. All G&G permits for commercial prospecting are subject to cost recovery, and BOEM regulations specify service fees for these requests.

The authority to carry out these responsibilities is contained in regulations under 30 CFR 580, as well as OCSLA Section 11 (43 U.S.C. 1340(a)(1)), which is the subject of this information collection renewal. BOEM uses the information to ensure there is no environmental degradation, personal harm, or unsafe operations and conditions, damage to historical or archaeological sites, or interference with other uses; to analyze and evaluate preliminary or planned mining activities; to monitor progress and activities in the OCS; to acquire G&G data and information collected under a Federal permit offshore; and to determine eligibility for reimbursement from the Government for certain costs. Respondents are required to submit form BOEM-0134 to provide the information necessary to evaluate their qualifications, and upon approval, respondents are issued a permit or authorization.

BOEM uses the information collected to understand the G&G characteristics of marine mineral-bearing physiographic regions of the OCS. The information aids BOEM in obtaining a proper balance among the potentials for environmental damage, the discovery of marine minerals, and associated impacts on affected coastal States.

In this renewal, BOEM is expanding the use of form BOEM-0134 to include applications to conduct noncommercial prospecting (exploration) of marine minerals, such as OCS sand, gravel, and shell resources for public use. BOEM is also updating the form to clarify the types of copies being requested, delete incorrect language, make recommendations for faster processing, update addresses, and reference environmental mitigation requirements. To respond to the types of questions BOEM receives on the form, BOEM is also clarifying wording, providing examples/tables to reduce confusion, and clarifying Regional differences, when necessary, to further assist applicants. BOEM is not asking for more information, just outlining current requirements in more detail. However, to better account for the requirement to submit environmental information sufficient for the environmental review, BOEM is increasing the burden hours from 10 to 88 hours for all OCS Regions. We are also adding the terms “authorization(s)” and “exploration” throughout the form so that the form also serves as the instrument to authorize entities to carry out noncommercial prospecting (exploration) of marine minerals.

Responses are mandatory or required to obtain or retain a benefit. No questions of a sensitive nature are asked. The BOEM protects information considered proprietary according to 30 CFR 580.70, applicable sections of 30 CFR parts 550 and 552, and the Freedom of Information Act (5 U.S.C. 552) and its implementing regulations (43 CFR part 2).

Frequency: On occasion, annual, or as specified in permits.

Estimated Number and Description of Respondents: There are four to seven permittees/respondents, including those required to only file notices (scientific research).

Estimated Reporting and Recordkeeping Hour Burden: We estimate the burden for this information collection to be about 488 hours. The following table details the individual components and estimated hour burdens. In calculating the burdens, we assumed that respondents perform certain requirements in the normal course of their activities. We consider these to be usual and customary and took that into account in estimating the burden.

Burden Table
Citation 30 CFR part 580, as applicable | Reporting and recordkeeping requirements | Hour burden | Average number of annual responses | Annual burden hours
|  | Non-hour cost burden ¹
Subpart B
10; 11(a); 12; 13; Permit Form | Apply for permit or authorization (Form BOEM-0134) to conduct prospecting/exploration or G&G scientific research activities, including prospecting/scientific research plan and environmental assessment or required drilling plan. Provide notifications & additional information as required | 88 | 2 permits | 176
|  |  | 2 authorizations | 176
|  |  | $2,012 permit application fee × 2 permits ² = $4,024
11(b); 12(c) | File notice to conduct scientific research activities related to hard minerals, including notice to BOEM prior to beginning and after concluding activities. Arrange alternative deadline | 8 | 3 notices | 24
Subtotal |  |  | 7 Responses | 376
|  |  | $4,024 Non-Hour Cost Burden
Subpart C
21(a) | Report to BOEM if hydrocarbon/other mineral occurrences or environmental hazards are detected or adverse effects occur | 1 | 1 report | 1
22 | Request approval to modify operations, with required information | 1 | 2 requests | 2
23(b) | Request reimbursement for expenses for BOEM inspection | 1 | 3 requests | 3
24 | Submit status and final reports on specified schedule/format | 12 | 4 reports | 48
28 | Request relinquishment of permit | 1 | 1 relinquishment ³ | 1
31(b); 73 | Governor(s) of adjacent State(s) submissions to BOEM: Comments on activities involving an environmental assessment; request for proprietary data, information, and samples; and disclosure agreement | 1 | 3 submissions | 3
33, 34 | Appeal penalty, order, or decision—burden exempt under 5 CFR 1320.4(a)(2), (c). | 0
Subtotal |  |  | 14 Responses | 58
Subpart D
40; 41; 50; 51; Permit Form | Notify BOEM and submit G&G data/information collected under a permit and/or processed by permittees or 3rd parties, including reports, logs or charts, results, analyses, descriptions, etc., as required | 8 | 3 submissions | 24
42(b); 52(b) | Advise 3rd party recipient of obligations. Part of licensing agreement between parties; no submission to BOEM | ½ | 4 notices | 2
42(c), (d); 52(c), (d) | Notify BOEM of 3rd party transactions | 1 | 1 notice | 1
60; 61 | Request reimbursement for costs of reproducing data/information & certain processing costs | 1 | 1 request ³ | 1
70 | Enter disclosure agreement | 4 | 1 agreement | 4
72(b) | Submit in not less than 5 days comments on BOEM's intent to disclose data/information | 4 | 1 response | 4
72(d) | Contractor submits written commitment not to sell, trade, license, or disclose data/information | 4 | 2 submissions | 8
Subtotal |  |  | 13 Responses | 44
General
Part 580 | General departure and alternative compliance requests not specifically covered elsewhere in Part 580 regulations | 4 | 1 request | 4
Permits ⁴ | Request extension of permit/authorization time period | 1 | 2 extensions | 2
Permits ⁴ | Retain G&G data/information for 10 years and make available to BOEM upon request | 1 | 4 respondents | 4
Subtotal |  |  | 7 Responses | 10
Total Burden |  |  | 41 Responses | 488
|  |  | $4,024 Non-Hour Cost Burdens
¹ Fees are subject to modification per inflation annually.
² Only permits, not authorizations, are subject to cost recovery.
³ No requests received for many years. Minimal burden for regulatory (PRA) purposes only.
⁴ These permits/authorizations are prepared by BOEM and sent to respondents; therefore, the forms themselves do not incur burden hours.

Estimated Reporting and Recordkeeping “Non-Hour Cost” Burden: We have identified one non-hour cost burden for this collection. Under § 580.12(a), there is an application fee of $2,012 when respondents submit a permit application (refer to the table above). Respondents conducting scientific research are required only to file a notice with BOEM and are not subject to the cost recovery fee.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

If you have costs to generate, maintain, and disclose this information, you should comment and provide your total capital and startup costs or annual operation, maintenance, and purchase of service costs. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) Before October 1, 1995; (b) to comply with requirements not associated with the information collection; (c) for reasons other than to provide information or keep records for the Government; or (d) as part of customary and usual business or private practices.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: December 19, 2014.
Deanna Meyer-Pietruszka,
Chief, Office of Policy, Regulations, and Analysis.

[FR Doc. 2014-30559 Filed 12-29-14; 8:45 am]

BILLING CODE 4310-MR-P